DEPARTMENT OF ENERGY

10 CFR Part 430

[Docket No. [EERE-2020-BT-STD-0039]

RIN 1904-AF00

Energy Conservation Program: Energy Conservation Standards Preliminary Analysis for Miscellaneous Refrigeration Products

AGENCY: Office of Energy Efficiency and Renewable Energy, Department of Energy.

ACTION: Notification of rescheduled public meeting.

SUMMARY: On January 21, 2022, the U.S. Department of Energy (“DOE”) published a notification of a webinar and availability of a preliminary technical support document for miscellaneous refrigeration products (“MREFs”). The notification announced that a public meeting webinar would be held on February 17, 2022. On January 28, 2022, DOE received a request from the Association of Home Appliance Manufactures (“AHAM”) to move the webinar date due to significant scheduling constraints. To accommodate these scheduling issues, DOE is moving the public meeting webinar for MREFs to Monday, March 7, 2022.

DATES: The public meeting webinar regarding the MREF preliminary analysis will now be held on March 7, 2022, from 1:00 p.m. until 4:00 p.m.

ADDRESSES: See the “Public Participation” section of this document for webinar registration information, participant instructions, and information about the capabilities available to webinar participants. Interested persons are encouraged to submit comments via email or by using the Federal eRulemaking Portal at www.regulations.gov. Further information on how to submit written comments is provided in the Federal Register notices for the MREF preliminary analysis.

FOR FURTHER INFORMATION CONTACT: Dr. Stephanie Johnson, U.S. Department of Energy, Office of Energy Efficiency and Renewable Energy, Building Technologies, EE-2J, 1000 Independence Avenue SW, Washington, DC 20585-0121. Telephone: (202) 287-1943. Email: ApplianceStandardsQuestions@ee.doe.gov.

Mr. Michael Kido, U.S. Department of Energy, Office of the General Counsel, GC-33, 1000 Independence Avenue SW, Washington, DC 20585-0121. Telephone: (202) 586-8145. Email: Michael.Kido@hq.doe.gov.

For further information on how to submit a comment or review other public comments and the docket, contact the Appliance and Equipment Standards Program staff at (202) 287-1445 or by email: ApplianceStandardsQuestions@ee.doe.gov.

SUPPLEMENTARY INFORMATION: On January 21, 2022, the U.S. Department of Energy (“DOE”) published a notification of a webinar and availability of preliminary technical support document for miscellaneous refrigeration products (“MREFs”). (87 FR 3229) The notification also announced a public meeting webinar would be held on February 17, 2022. Subsequent to the publication of that notification, on January 28, 2022, DOE received a request from the Association of Home Appliance Manufactures (“AHAM”) to move the webinar date due to significant scheduling constraints (www.regulations.gov/docket/EERE-2020-BT-STD-0039/document). Particularly, AHAM referenced several DOE webinars that are scheduled to take place in close succession to the scheduled MREF meeting. To accommodate AHAM's request in addressing these scheduling issues, DOE is moving the public meeting webinar for MREFs to Monday, March 7, 2022.

Public Participation

The time and date of the webinar meeting are listed in the DATES section at the beginning of this document. Webinar registration information, participant instructions, and information about the capabilities available to webinar participants will be published on DOE's website: www1.eere.energy.gov/buildings/appliance_standards/standards.aspx?productid=39&action=viewlive. Participants are responsible for ensuring their systems are compatible with the webinar software.

Any person who has an interest in the topics addressed in either document, or who is representative of a group or class of persons that has an interest in these issues, may request an opportunity to make an oral presentation at the webinar. Requests should be sent by email to: ApplianceStandardsQuestions@ee.doe.gov. Persons who wish to speak should include with their request a computer file in WordPerfect, Microsoft Word, PDF, or text (ASCII) file format that briefly describes the nature of their interest in this rulemaking and the topics they wish to discuss. Such persons should also provide a daytime telephone number where they can be reached.

Persons requesting to speak should briefly describe the nature of their interest in these rulemakings and provide a telephone number for contact. DOE requests persons selected to make an oral presentation to submit an advance copy of their statements at least two weeks before the webinar. At its discretion, DOE may permit persons who cannot supply an advance copy of their statement to participate, if those persons have made advance alternative arrangements with the Building Technologies Office. As necessary, requests to give an oral presentation should ask for such alternative arrangements.

DOE will designate a DOE official to preside at the webinar and may also use a professional facilitator to aid discussion. The meeting will not be a judicial or evidentiary-type public hearing, but DOE will conduct it in accordance with section 336 of EPCA (42 U.S.C. 6306). A court reporter will be present to record the proceedings and prepare a transcript. DOE reserves the right to schedule the order of presentations and to establish the procedures governing the conduct of the webinar. There shall not be discussion of proprietary information, costs or prices, market share, or other commercial matters regulated by U.S. anti-trust laws. After the webinar, and until the end of the comment period, interested parties may submit further comments on the proceedings and any aspect of the rulemaking.

The webinar will be conducted in an informal, conference style. DOE will allow time for prepared general statements by participants and encourage all interested parties to share their views on issues affecting this rulemaking. Each participant will be allowed to make a general statement (within time limits determined by DOE), before the discussion of specific topics. DOE will permit, as time permits, other participants to comment briefly on any general statements.

At the end of all prepared statements on a topic, DOE will permit participants to clarify their statements briefly. Participants should be prepared to answer questions by DOE and by other participants concerning these issues. DOE representatives may also ask questions of participants concerning other matters relevant to this rulemaking. The official conducting the webinar will accept additional comments or questions from those attending, as time permits. The presiding official will announce any further procedural rules or modification of the above procedures that may be needed for the proper conduct of the webinar.

A transcript of the webinar will be included in the docket, which can be viewed as described in the Docket section at the beginning of this document. In addition, any person may buy a copy of the transcript from the transcribing reporter.

Signing Authority

This document of the Department of Energy was signed on February 3, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 4, 2022.
Treena V. Garrett,
Federal Register Liaison Officer, U.S. Department of Energy.

[FR Doc. 2022-02713 Filed 2-8-22; 8:45 am]

BILLING CODE 6450-01-P